DEPARTMENT OF THE INTERIOR

Bureau of Reclamation

Glen Canyon Adaptive Management Work Group (AMWG) and Glen Canyon Technical Work Group (TWG)

AGENCY: Bureau of Reclamation, Interior.

ACTION: Notice of public meetings.

SUMMARY: The Adaptive Management Program (AMP) was implemented as a result of the Record of Decision on the Operation of Glen Canyon Dam Final Environmental Impact Statement and to comply with consultation requirements of the Grand Canyon Protection Act (Pub. L. 102-575) of 1992. The AMP provides an organization and process to ensure the use of scientific information in decision making concerning Glen Canyon Dam operations and protection of the affected resources consistent with the Grand Canyon Protection Act. The AMP has been organized and includes a federal advisory committee (the AMWG), a technical work group (the TWG), a monitoring and research center, and independent review panels. The TWG is a subcommittee of the AMWG and provides technical advice and information for the AMWG to act upon.

DATES AND LOCATION: The Adaptive Management Work Group will conduct the following public meetings:

Phoenix, Arizona—April 12-13, 2001. The meeting will begin at 9:30 a.m. and conclude at 4 p.m. on the first day and begin at 8 a.m. and conclude at 12 noon on the second day. The meeting will be held at the Bureau of Indian Affairs—Western Regional Office, 2 Arizona Center, Conference Rooms A and B (12th Floor), 400 North 5th Street, Phoenix, Arizona.

Agenda: The purpose of the meeting will be to discuss the following: development of the AMP Strategic Plan, basin hydrology, results from the TCD Expert Panel Workshop, environmental compliance, and other administrative and resource issues pertaining to the AMP.

Phoenix, Arizona—July 17-18, 2001. The meeting will begin at 9:30 a.m. and conclude at 4 p.m. on the first day and begin at 8 a.m. and conclude at 12 noon on the second day. The meeting will be held at the Bureau of Indian Affairs—Western Regional Office, 2 Arizona Center, Conference Rooms A and B (12th Floor), 400 North 5th Street, Phoenix, Arizona.

Agenda: The purpose of the meeting will be to discuss the following: the AMP Strategic Plan, FY 2003 AMP budget, environmental compliance, and other administrative and resource issues pertaining to the AMP.

DATES AND LOCATION: The Technical Work Group will conduct the following public meetings:

Phoenix, Arizona—February 13, 2001. The meeting will begin at 9:30 a.m. and conclude at 5 p.m. the first day and begin at 8 a.m. and conclude at 12 noon on the second day. The meeting will be at the Crowne Plaza Hotel, 100 N. First Street, Phoenix, Arizona, Navajo B&C conference rooms.

Agenda: The purpose of the meeting will be to continue work on the Strategic Plan and to identify major issues for the AMWG to address in April and July, including an update on hydrology, TWG ad hoc groups, Protocol Evaluation Panel Report on the Integrated Water Quality Plan, draft reports on the TCD Expert Panel Workshop and Stock Assessment Workshop, and a tour of the Western Area Power Southwest Office.

Phoenix, Arizona—March 14-15, 2001. The meeting will begin at 9:30 a.m. and conclude at 4 p.m. The meeting will be held at the Hawthorne Suites Hotel, I-10 and University Drive, Phoenix, Arizona.

Agenda: The purpose of the meeting will be to discuss the following: Strategic Plan management objectives, Low Steady Summer Flows Report, TWG River Trip on March 24-31, and other administrative and resource issues pertaining to the AMP.

Phoenix, Arizona—May 30-31, 2001. The meeting will begin at 9:30 a.m. and conclude at 4 p.m. The meeting will be held at the Bureau of Indian Affairs—Western Regional Office, 2 Arizona Center, Conference Rooms A and B (12th Floor), 400 North 5th Street, Phoenix, Arizona.

Agenda: The purpose of the meeting will be to discuss the following: Final results of the Low Steady Summer Flows, discussion of Strategic Plan Ad Hoc Committee work, agenda items for the AMWG meeting to be held July 17-18, 2001, and other administrative and resource issues pertaining to the AMP.

Agenda items may be revised prior to any of the meetings. Final agendas will be posted 15 days in advance of each meeting and can be found on the Bureau of Reclamation's website under Environmental Programs at: http://www.uc.usbr.gov. Time will be allowed on each agenda for any individual or organization wishing to make formal oral comments (limited to 10 minutes) at the meetings.

To allow full consideration of information by the TWG and AMWG members, written notice must be provided to Randall Peterson, Bureau of Reclamation, Upper Colorado Regional Office, 125 South State Street, Room 6107, Salt Lake City, Utah 84138-1102; telephone (801) 524-3758; faxogram (801) 524-3858; E-mail at: rpeterson@uc.usbr.gov at least FIVE (5) days prior to the meeting. Any written comments received will be provided to the TWG and AMWG members at the meetings.

FOR FURTHER INFORMATION CONTACT: Randall Peterson, telephone (801) 524-3758; faxogram (801) 524-3858; rpeterson@uc.usbr.gov.

Dated: January 31, 2001.
Larry L. Todd,
Director, Operations, (Exercising the Commissioner's authority).

[FR Doc. 01-2975 Filed 2-2-01; 8:45 am]

BILLING CODE 4310-MN-P